DEPARTMENT OF DEFENSE

Department of the Army

Notice of Record of Decision (ROD) on the Final Environmental Impact Statement (FEIS) on the Disposal and Reuse of the Military Ocean Terminal, Bayonne, New Jersey

AGENCY: Department of the Army, DoD.

ACTION: Record of Decision.

SUMMARY: The Department of the Army announces its ROD on the FEIS for the disposal and reuse of the Military Ocean Terminal, Bayonne (MOTBY). The closure of MOTBY was mandated in accordance with the Defense Base Closure and Realignment Act of 1990, Public Law 101-510, as amended.

The ROD allows the Army to initiate action to dispose of the excess/surplus property of MOTBY, in accordance with the Bayonne Local Redevelopment Authority Amended Reuse Plan.

ADDRESSES: A copy of the ROD may be obtained by contacting Dr. Susan Ivester Rees, U.S. Army Corps of Engineers, U.S. Army Engineer District, Mobile (CESAM-PD), 109 St. Joseph Street, Mobile, AL 36602.

FOR FURTHER INFORMATION CONTACT: Dr. Susan Ivester Rees at 334-694-4141 or by facsimile at 334-690-2727.

SUPPLEMENTARY INFORMATION: The FEIS analyzed three disposal alternatives with respect to the disposal and subsequent reuse of the 676-acre (440 land acres and 236 submerged land acres) comprising the MOTBY: (1) the no action alternative, under which the property would be maintained in a caretaker status after closure; (2) the unencumbered alternative, under which the Army would transfer the property without encumbrances, such as environmental restrictions and easements; and (3) the encumbered disposal alternative, under which the Army would transfer the property with various environmental restrictions and easements, limiting the future use of the property.

In the ROD, the Army concludes that the FEIS adequately addresses the impacts of property disposal and documents its decision to transfer the property as encumbered. Possible encumbrances include: Covenants and restrictions pertaining to asbestos-containing material, lead-based paint, floodplains, future remedial activities after transfer, wetlands, easements and rights-of-way.

Dated: November 29, 2000.
Raymond J. Fatz,
Deputy Assistant Secretary of the Army, (Environment, Safety and Occupational Health), OASA (I&E).

[FR Doc. 00-30952 Filed 12-4-00; 8:45 am]

BILLING CODE 3710-08-M